DEPARTMENT OF TRANSPORTATION

Federal Aviation Administration

[Docket No. FAA-2020-0303]

Agency Information Collection Activities: Requests for Comments; Clearance of Renewed Approval of Information Collection: Small Unmanned Aircraft Systems (sUAS) Accident Reporting

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on March 31, 2020. The FAA requires that small unmanned aircraft accidents be reported to the FAA if they result in injury or damage exceeding certain thresholds.

DATES: Written comments should be submitted by July 6, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Joseph K. Hemler, Jr., by email at: Joseph.K.Hemler-Jr@faa.gov; phone: (202) 267-0159.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0767.

Title: Small Unmanned Aircraft Systems (sUAS) Accident Reporting.

Form Numbers: N/A (web portal: https://faadronezone.faa.gov).

Type of Review: Renewal.

Background: The Federal Register Notice with a 60-day comment period soliciting comments on the following collection of information was published on March 31, 2020 (85 FR 17941). 14 CFR part 107 requires that a small unmanned aircraft accident be reported if it causes: (1) Serious injury to any person or any loss of consciousness; or (2) damage to any property, other than the small unmanned aircraft, unless the cost of repair or fair market value in the event of total loss does not exceed $500. The information collected by the FAA through its DroneZone web portal, Flight Standards District Offices, or one of the Regional Operations Centers or the Washington Operations Center for each small UAS accident will be used to investigate and determine regulatory compliance. In addition, the accident information will go into the FAA aircraft accident database for safety analysis purposes by the FAA Office of Accident Investigation and Analysis, pursuant to its statutory safety mission. As is currently the case for manned aircraft accidents, small UAS accident data will be made available to the public and the National Transportation Safety Board (NTSB).

Respondents: Approximately 35 per year.

Frequency: On occasion.

Estimated Average Burden per Response: 15 minutes.

Estimated Total Annual Burden: 8.75 hours.

Issued in Washington, DC, on June 1, 2020.
Dwayne C. Morris,
Project Manager, Flight Standards Service, General Aviation and Commercial Division.

[FR Doc. 2020-12137 Filed 6-4-20; 8:45 am]

BILLING CODE 4910-13-P